DEPARTMENT OF ENERGY

Federal Energy Regulatory Commission

[Docket No. RP03-412-002]

Central New York Oil and Gas Company, LLC; Notice of Compliance Filing

July 9, 2003.

Take notice that on July 3, 2003, Central New York Oil And Gas Company, LLC (CNYOG) tendered for filing as part of its FERC Gas Tariff, Original Volume No. 1, Fifth Revised Sheet No. 103, to be effective July 1, 2003.

CNYOG states that the purpose of its filing is to comply with the Commission's June 26, 2003 Letter Order in this proceeding which accepted CNYOG's revised tariff sheets as generally complying with Order No. 587-R and directed CNYOG to file revised tariff sheets deleting incorporation by reference of North American Energy Standards Board Wholesale Gas Quadrant Standard 4.3.4.

CNYOG further states that it has served copies of this filing upon the company's jurisdictional customers and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 15, 2003.

Magalie R. Salas,
Secretary.

[FR Doc. 03-17886 Filed 7-15-03; 8:45 am]

BILLING CODE 6717-01-P